DEPARTMENT OF TRANSPORTATION

National Highway Traffic Safety Administration

[Docket No. NHTSA-2014-0107; Notice 2]

Continental Tire the Americas, LLC, Grant of Petition for Decision of Inconsequential Noncompliance

AGENCY: National Highway Traffic Safety Administration (NHTSA), Department of Transportation (DOT).

ACTION: Grant of petition.

SUMMARY: Continental Tire the Americas, LLC (CTA) has determined that certain Continental General Altimax RT43 replacement tires do not fully comply with paragraphs S5.5(c) and (f) of Federal Motor Vehicle Safety Standard (FMVSS) No. 139, New Pneumatic Radial Tires for Light Vehicles. CTA has filed an appropriate report dated August 19, 2014, pursuant to 49 CFR part 573, Defect and Noncompliance Responsibility and Reports.

ADDRESSES: For further information on this decision contact Abraham Diaz, Office of Vehicle Safety Compliance, the National Highway Traffic Safety Administration (NHTSA), telephone (202) 366-5310, facsimile (202) 366-5930.

SUPPLEMENTARY INFORMATION:

I. CTA's Petition: Pursuant to 49 U.S.C. 30118(d) and 30120(h) (see implementing rule at 49 CFR part 556), CTA submitted a petition for an exemption from the notification and remedy requirements of 49 U.S.C. Chapter 301 on the basis that this noncompliance is inconsequential to motor vehicle safety.

Notice of receipt of the petition was published, with a 30-day public comment period, on November 21, 2014 in the Federal Register (79 FR 69554). No comments were received. To view the petition and all supporting documents log onto the Federal Docket Management System (FDMS) Web site at: http://www.regulations.gov./. Then follow the online search instructions to locate docket number “NHTSA-2014-0107.”

II. Tires Involved: Affected are approximately 814 replacement tires that were manufactured for sale in the United States and Canada. CTA states that 181 of the replacement tires are still under their control. CTA further identified the tires as General Altimax RT43 brand 195/65R15 91T passenger car tires and General Altimax RT43 brand 195/65R15 91H passenger car tires.

III. Noncompliance: CTA explains that the noncompliance is that due to a mold labeling error the sidewall markings on both tires incorrectly describe the maximum inflation pressure as required by paragraph 5.5 (c) and the actual number plies in the tread area of the tires as required by paragraph S5.5(f) of FMVSS No. 139. Specifically, the 195/65R15 91T General Altimax RT43 tires were manufactured with “Max Inflation Pressure: 350 kPa (51 PSI); Tread: 1 Polyester + 2 Steel + 2 Polyamide.” The correct labeling and stamping should have been “Max Inflation Pressure: 300 kPa (44 PSI); Tread: 1 Polyester + 2 Steel + 1 Polyamide.” The 195/65R15 91H General Altimax RT43 tires were manufactured with “Max Inflation Pressure 300 kPa (44 PSI); Tread: 1 Polyester + 2 Steel + 1 Polyamide.” The correct labeling and stamping should have been “Max Inflation Pressure 350 kPa (51 PSI); Tread: 1 Polyester + 2 Steel + 2 Polyamide.”

IV. Rule Text: Paragraph S5.5(c) and (f) of FMVSS No. 139 requires in pertinent part:

S5.5 Tire Markings. Except as specified in paragraphs (a) through (i) of S5.5, each tire must be marked on each sidewall with the information specified in S5.5(a) through (d) and on one sidewall with the information specified in S5.5(e) through (i) according to the phase-in schedule specified in S7 of this standard . . .

(C) The maximum permissible inflation pressure, subject to the limitation of S5.5.4 through S5.5.6 of this standard;

(f) The actual number of plies in the sidewall, and the actual number of plies in the tread area, if different;

V. Summary of CTA's Analyses: CTA stated its belief that the subject noncompliance is inconsequential to motor vehicle safety for the following reasons:

(A) Number of Plies: CTA believes that the mislabeling of the number of plies on the subject tires has no impact on the operational performance of the subject tires or on the safety of vehicles on which these tires are to be mounted. CTA states that the subject tires also meet or exceed all of the performance requirements specified by FMVSS No. 139.

(B) Max Inflation Pressure: CTA believes that the choice of the maximum inflation pressure level is the decision of the tire manufacturer, as long as it is in compliance with the established values under FMVSS No. 139 paragraph S5.5.4. CTA also believes that the maximum inflation pressure values of 350 kPa and 300 kPa on both tires are acceptable choices and stated that both tires can accommodate a maximum pressure of 350 kPa (51 PSI).

(C) Overloading: CTA believes that the use of either of the maximum inflation pressures displayed on the subject tire sidewalls as the source of information for the recommended inflation pressure will not result in an overloading of the tires or their load carrying capacity. CTA says this is because both values (300 kPa and 350 kPa) are above the inflation pressure of 250 kPa (36 PSI) at which the tire's maximum load capacity is defined by the European Tyre and Rim Technical Organisation (ETRTO) standard.

(D) Strength: CTA stated that each standard load tire has a specified tire strength requirement which is defined in paragraph S6.5 of FMVSS No. 139 (and paragraph S5.3 of FMVSS No. 109) and must be met whether the selected maximum permissible pressure marking value is 240 kPa (35 PSI), 300 kPa (44 PSI), or 350 kPa (51 PSI). CTA believes that both of the subject tires meet this requirement.

(E) Incidents: CTA stated that they are not aware of any crashes, injuries, customer complaints, or field reports associated with the subject noncompliance.

(F) Previous Rulings: CTA made mention that NHTSA has previously granted tire companies inconsequentiality exemptions relating to errors in sidewall markings.

CTA has additionally informed NHTSA that it has corrected the noncompliance so that all future production of the subject tires comply with FMVSS No. 139.

In summation, CTA believes that the described noncompliance of the subject tires is inconsequential to motor vehicle safety, and that its petition, to exempt CTA from providing recall notification of noncompliance as required by 49 U.S.C. 30118 and remedying the recall noncompliance as required by 49 U.S.C. 30120 should be granted.

NHTSA Decision

NHTSA Analysis: Continental explained that the subject tires, the 195/65R15 91T General Altimax RT43 and the 195/65R15 91H General Altimax RT43, do not comply with paragraph S5.5(c) FMVSS No. 139 because they were manufactured with an incorrect maximum permissible inflation pressure value. The maximum permissible inflation pressure for the 195/65R15 91T General Altimax RT43 was marked as 350 KPA (51 PSI)and the maximum permissible inflation pressure for the 195/65R15 91H General Altimax RT43 was marked as 300 KPA (44 PSI). The correct maximum permissible inflation pressure value for the 195/65R15 91T General Altimax RT43 should have been 300 KPA (44 PSI) while the correct maximum inflation pressure for the 195/65R15 91H General Altimax RT43 should have been 350 KPA (51 PSI). Continental stated that for the subject 195/65R15 standard load tires, both maximum inflation pressures of 350 KPA and 300 KPA are acceptable choices and both types of tires can safely accommodate the maximum inflation pressure of 350 KPA.

Continental stated that inflation of the tires to the incorrect maximum pressure value stamped on the sidewall will not result in overloading of their load carrying capacity since both values of 300 KPA and 350 KPA are above the inflation pressure of 250 KPA at which the tire's maximum load capacity is defined by the European Tyre and Rim Technical Organisation (ETRTO). Thus, the maximum load capacity of these tires can be obtained with the stamped pressures of 300 KPA and 350 KPA and therefore following the maximum permissible inflation pressure values on the side wall of the tires will not lead to inadvertent overloading.

NHTSA agrees that in the case of the subject tires the noncompliances with paragraph S5.5(c) of FMVSS No. 139 are inconsequential to motor vehicle safety. The mislabeling does not cause any safety problems, such as increasing the probability of tire failure, and it is unlikely to result in unsafe use of the tires.

The agency also believes that the noncompliance of the subject tires with the ply labeling requirements of paragraph S5.5(f) of FMVSS No. 139 is inconsequential to motor vehicle safety because the noncompliance does not affect the operational safety of the vehicles on which these tires are mounted. Although tire construction affects the strength and durability, information relating tire strength and durability to the number of plies and types of ply cord material in the tread and sidewall is not readily available to tire dealers and consumers. Therefore, tire dealers and consumers should consider the tire construction information along with other information such as load capacity, maximum inflation pressure, and tread wear, temperature, and traction ratings, to assess performance capabilities of various tires. In the agency's judgment, the incorrect labeling of the tire construction information will have an inconsequential effect on motor vehicle safety because most consumers do not base tire purchases or vehicle operation parameters on the number of plies in a tire.

NHTSA has also considered the safety of personnel working in the tire retread, repair, and recycling industries in assessing whether the noncompliance of the subject tires with paragraph S5.5(f) FMVSS No. 139 is inconsequential to motor vehicle safety. The agency believes the noncompliance will have no measurable effect on the safety of tire retread, repair, and recycling industries. The use of steel cord construction in the sidewall and tread is the primary safety concern of these industries. In this case, since the tire sidewall is marked correctly for the number of steel plies, this potential safety concern does not exist.

NHTSA Decision: In consideration of the foregoing, NHTSA has decided that CTA has met its burden of persuasion that the FMVSS No. 139 noncompliance is inconsequential to motor vehicle safety. Accordingly, CTA's petition is hereby granted and CTA is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant tires that CTA no longer controlled at the time it determined that the noncompliance existed. However, the granting of this petition does not relieve equipment distributors and dealers of the prohibitions on the sale, offer for sale, or introduction or delivery for introduction into interstate commerce of the noncompliant tires under their control after CTA notified them that the subject noncompliance existed.

Authority: (49 U.S.C. 30118, 30120: delegations of authority at 49 CFR 1.95 and 501.8)

Jeffrey M. Giuseppe,
Director, Office of Vehicle Safety Compliance.

[FR Doc. 2015-13109 Filed 5-29-15; 8:45 am]

BILLING CODE 4910-59-P